DEPARTMENT OF COMMERCE

National Oceanic and Atmospheric Administration

50 CFR Parts 223 and 224

[Docket No. 021219319-2319-01; I.D. 121702B]

Endangered and Threatened Species: Status Review Updates for Snake River Sockeye Salmon and Southern California Steelhead; and Additional Information Request for Nine Evolutionarily Significant Units of West Coast Steelhead

AGENCY: National Marine Fisheries Service (NMFS), National Oceanic and Atmospheric Administration (NOAA), Commerce.

ACTION: Notice of updated status reviews; request for information.

SUMMARY: The National Marine Fisheries Service (NMFS) is currently reviewing the status of 25 Evolutionarily Significant Units (ESUs) of salmon and steelhead (Oncorhynchus spp.) that are currently listed as threatened or endangered species under the Endangered Species Act (ESA) of 1973, as amended, or listed as a candidate species. NMFS is announcing that it will also be updating the status of two additional anadromous salmonid ESUs currently listed as endangered species: Snake River sockeye salmon (O. nerka) and Southern California steelhead (O. mykiss). NMFS is also announcing that its status review updates for all listed steelhead ESUs will also address resident rainbow trout (O. mykiss) populations associated with each ESU. To ensure that these status reviews are complete and based upon the best available scientific information, NMFS is soliciting information and data regarding the status of these ESUs, including information on resident rainbow trout populations associated with steelhead ESUs. These status review updates will be completed after a revision of NMFS' policy regarding the consideration of hatchery fish in ESA status reviews of Pacific salmonids. At such time that the status reviews are updated, NMFS will consider whether there is a need to reevaluate critical habitat designations, protective regulations, or any ongoing recovery planning efforts for these ESUs.

DATES: Information and comments on this action must be received by February 14, 2003.

ADDRESSES: Information and comments on this action should be submitted to the Assistant Regional Administrator, Protected Resources Division, Southwest Region, NMFS, 501 West Ocean Blvd., Suite 4200, Long Beach, CA 90802-4213, or Assistant Regional Administrator, Protected Resources Division, Northwest Region, NMFS, 525 NE Oregon Street, Suite 500, Portland, OR 97232. Comments will not be accepted if submitted via e-mail or the Internet. However, comments may be sent via fax to the Southwest Region (562-980-4021) or the Northwest Region (503-230-5435).

FOR FURTHER INFORMATION CONTACT: Craig Wingert, NMFS, Southwest Region (562) 980-4021, Scott Rumsey, NMFS, Northwest Region (503) 872-2791, or Barry Thom, NMFS, Office of Protected Resources (301) 713-1401.

SUPPLEMENTARY INFORMATION:

Background

On February 11, 2002, NMFS announced it was undertaking updated status reviews for 25 Evolutionarily Significant Units (ESUs) of salmon and steelhead on the West coast (67 FR 6215). These updated status reviews are in progress and include 24 of 26 currently listed salmon and steelhead ESUs, as well as one candidate ESU (Lower Columbia River coho salmon). The status review updates for 14 of these ESUs were triggered by NMFS's acceptance of five de-listing petitions requesting that the ESUs should be de-listed on the basis of the September 2001 U.S. District Court ruling in Alsea Valley Alliance v. Evans (Alsea decision). The Court held that NMFS made an improper distinction under the ESA by treating certain artificially propagated salmon populations included in a “distinct population segment” differently from natural populations in the same DPS in making its listing determinations. In the same Federal Register notice, NMFS also announced that it would not revisit the status of the endangered Snake River sockeye or the endangered Southern California steelhead ESUs because the listing determinations for these ESUs were unaffected by the ESA interpretative issues stemming from the Alsea decision.

NMFS is planning to undertake updated status reviews for both of these ESUs. In the case of the Snake River sockeye, this is based on two considerations. First, the status of the ESU has not been updated since 1991 and since there is at least 10 years of new information available an update is warranted. Second, NMFS is developing a new hatchery listing policy that will give consideration to artificial propagation programs in future salmon and steelhead listing determinations. Since this ESU contains a captive hatchery population, it is appropriate to conduct an updated status review and apply the policy to this ESU so that a consistent approach will have been used in all NMFS' listing determinations for Pacific salmonids. In the case of Southern California steelhead, NMFS has determined that an updated status review is appropriate based on two considerations. First, the last comprehensive status review was completed in 1996 and thus several years of new information may be available that should be considered in a status update. Second, issues have been raised in recent litigation (Environmental Defense Center v. Evans) about the status of resident rainbow trout populations above and below barriers, their relationship to steelhead populations below barriers, and whether or not resident forms should be part of the listed steelhead ESU. These issues warrant further consideration and are most appropriately addressed in an updated status review.

NMFS has also determined that the issues regarding the relationship between resident rainbow trout and steelhead that were raised in the Environmental Defense Center v. Evans case may also apply to the 9 ESUs of steelhead for which updated status reviews have already been initiated (see 67 FR 6215; February 11, 2002). Accordingly, NMFS has expanded these 9 steelhead ESU status review updates to further consider resident rainbow trout and their relationship to steelhead. To ensure that NMFS has the best available scientific and commercial data to address these issues, this Federal Register notice specifically requests information on resident rainbow trout populations associated with these 9 steelhead ESUs.

In conducting these status review updates and making any future listing determinations for these ESUs, NMFS will utilize the best available scientific and commercial data and coordinate with the U.S. Fish and Wildlife Service (FWS). NMFS will also consider conservation efforts that provide substantial benefit to the protection and conservation of these ESUs (see joint NMFS - FWS “Proposed Policy on Evaluating Conservation Efforts"; 65 FR 37102; June 13, 2000).

Description of ESUs to be Reviewed

The following sections describe the Snake River sockeye and Southern California steelhead ESUs that will be updated. The year of the most recent status review and the latest data utilized are also provided for each ESU to indicate the available data that would be most valuable to NMFS (e.g. information since the most recent status review) in conducting the status review updates.

Snake River Sockeye Salmon ESU

The Snake River sockeye ESU was listed as an endangered species on November 20, 1991 (56 FR 58619). The ESU includes all naturally spawned populations of sockeye salmon in Redfish Lake in the Salmon River Basin, Idaho. The ESU also includes a captive hatchery population of sockeye salmon. The status of the ESU was last reviewed in 1991 (Waples et al., 1991) utilizing data through 1990.

Southern California Steelhead ESU

The Southern California steelhead ESU was listed as an endangered species on August 18, 1997 (62 FR 43937). The ESU was defined to include all naturally spawned steelhead populations (and their progeny) occupying rivers from the Santa Maria River, San Luis Obispo County, California (inclusive) southward to Malibu Creek, Los Angeles County, California. Resident forms of steelhead (i.e. rainbow trout) above and below barriers were not included in the final listing determination. However, the status review noted that the resident life history form may be a significant part of the ESU, but that there was insufficient information regarding resident trout to reasonably evaluate their status or interactions with steelhead (Busby et al. 1966). On May 1, 2002, NMFS redefined the geographic range of this ESU to include all naturally spawned steelhead (and their progeny) occupying rivers from the Santa Maria River, San Luis Obispo County, California (inclusive) to the U.S.-Mexico Border based on new information indicating that steelhead spawned in at least one location south of Malibu Creek (67 FR 21586). Resident forms of steelhead (i.e. rainbow trout) were not included in this range extension. The status of this ESU was last reviewed comprehensively in 1996 based on the best data available at that time (Busby et al. 1996).

The 9 steelhead ESUs for which NMFS is requesting additional information on resident rainbow trout populations are described in the February 11, 2002, Federal Register notice announcing the west coast status review updates (67 FR 6215). They include the following ESUs: South-Central California Coast steelhead, Central California Coast steelhead, Upper Columbia River steelhead, Snake River Basin steelhead, Lower Columbia River steelhead, California Central Valley steelhead, Upper Williamette River steelhead, Middle Columbia River steelhead, and Northern California steelhead.

Information Solicited

To ensure that the status review updates are complete and based on the best available and most recent scientific and commercial data, NMFS is soliciting information and comments (see DATES and ADDRESSES) concerning the Snake River sockeye and Southern California steelhead ESUs. NMFS is soliciting pertinent information on naturally spawned and hatchery populations within these ESUs including: data on population abundance, recruitment, productivity, escapement and reproductive success; historical and present data on hatchery releases, outmigration, survival, returns, straying rates, replacement rates, and reproductive success in the wild; data on age structure and migration patterns of juveniles and adults; meristic, morphometric, and genetic studies; and spatial and temporal trends in the quality and quantity of freshwater, estuarine, and marine habitats. NMFS is particularly interested in receiving such information for the period subsequent to the most recent status review for the two ESUs (see Description of ESUs to be Reviewed).

In the case of Southern California steelhead and the other 9 ESUs of west coast steelhead, NMFS is also soliciting pertinent information about resident rainbow trout populations above and below barriers within the geographic range occupied by the ESU. NMFS in particular is seeking information regarding: the relationship between resident rainbow trout and steelhead; the range, distribution, and habitat-use patterns of resident rainbow trout populations; the abundance, density, and presence/absence of resident rainbow trout; genetic or other relevant data indicating the amount of exchange and the degree of historic and current relatedness between steelhead and resident rainbow trout life history forms; the existence of natural and artificial barriers to anadromous steelhead populations; the relationship of resident fish located above impassible barriers to anadromous and resident populations below such barriers; and the spatial and temporal trends in the quality and quantity of freshwater habitat, particularly above barriers.

Conservation Efforts to Protect ESUs

Section 4(b)(1)(A) of the ESA requires the Secretary to make listing determinations solely on the basis of the best scientific and commercial data available after conducting a review of the status of a species and after taking into account efforts being made to protect the species. Therefore, in making its listing determinations, NMFS first assesses the status of the species and identifies factors that have led to their decline. NMFS then assesses conservation efforts to determine whether they ameliorate a species' extinction risk. In judging the efficacy of conservation efforts, NMFS considers the following: the substantive, protective, and conservation elements of such efforts; the degree of certainty that such efforts will be reliably implemented; the degree of certainty that such efforts will be effective in furthering the conservation of the species; and the existence of monitoring provisions to determine the effectiveness of conservation efforts and that allow for adaptive management. In some cases, conservation efforts may be relatively new or may not have had sufficient time to demonstrate their biological benefit. In such cases, provisions of adequate monitoring and funding for conservation efforts are essential to ensure that the intended conservation benefits are realized. NMFS encourages all parties to submit information regarding ongoing conservation efforts to protect the Snake River sockeye and Southern California steelhead ESUs, as well as information on recently implemented or planned activities and their likely impact on these ESUs.

The complete citations for the references in this document can be obtained by contacting NMFS or via the Internet (see ADDRESSES and FOR FURTHER INFORMATION CONTACT).

Authority: 16 U.S.C. 1531 et seq.

Dated: December 23, 2002.
William T. Hogarth,
Assistant Administrator for Fisheries, National Marine Fisheries Service.

[FR Doc. 02-32953 Filed 12-30-02; 8:45 am]

BILLING CODE 3510-22-S